DEPARTMENT OF ENERGY

Federal Energy Regulatory Commission

[Project No. 3451-047]

Beaver Falls Municipal Authority; Notice of Scoping Meetings and Environmental Site Review and Soliciting Scoping Comments

Take notice that the following hydroelectric application has been filed with the Commission and is available for public inspection.

a. Type of Application: New Major License.

b. Project No.: 3451-047.

c. Date filed: August 1, 2022.¹

¹ The Commission's Rules of Practice and Procedure provide that if a deadline falls on a Saturday, Sunday, holiday, or other day when the Commission is closed for business, the deadline does not end until the close of business on the next business day. 18 CFR 385.2007(a)(2). Because the deadline for filing a license application fell on a Sunday (i.e., July 31, 2022), the deadline was extended until the close of business on Monday, August 1, 2022.

d. Applicant: Beaver Falls Municipal Authority.

e. Name of Project: Townsend Water Power Project (Townsend Project or project).

f. Location: On the Beaver River, in the Borough of New Brighton in Beaver County, Pennsylvania.

g. Filed Pursuant to: Federal Power Act, 16 U.S.C. 791(a)-825(r).

h. Applicant Contact: James Riggio, General Manager, Beaver Falls Municipal Authority, P.O. Box 400, Beaver Falls, PA 15010; (724) 846-2400.

i. FERC Contact: Claire Rozdilski at (202) 502-8259; or email at claire.rozdilski@ferc.gov.

j. Deadline for filing scoping comments: May 17, 2024.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, please send a paper copy via U.S. Postal Service to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Townsend Water Power Project (P-3451-047).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The Townsend Project includes: (1) a 450-foot-long and 13-foot-high dam, constructed of rock-filled timber cribs encased in concrete, with a 350-foot-long spillway and an average dam crest elevation of 698.63 feet National Geodetic Vertical Datum of 1929 (NGVD29); (2) an approximately 25-acre reservoir with a gross storage capacity of 200 acre-feet at normal pool elevation of 698.78 feet NGVD29; (3) a short entrance channel excavated in rock near the left dam abutment that directs water to an intake structure with two 17-foot-wide trashracks with 5-inch clear bar spacing; (4) a 52-foot-long by 46-foot-wide concrete powerhouse; (5) two double-regulated open-pit type turbine-generator units each rated at 2,500 kilowatts (kW) for a total installed capacity of 5 megawatts; (6) an approximately 230-foot-long tailrace, excavated in rock at a normal tailwater elevation of 681.17 feet NGVD29; (7) a 500-foot-long, 23-kilovolt (kV) transmission line owned by Duquesne Light Company; (8) 4.16-kV generator leads, a 60-foot-long section of 5-kV underground cable leading to a 5-megavolt-ampere, 4.16/23-kV step-up transformer in an outdoor substation; and (9) appurtenant facilities. The average annual generation was 19,524 megawatt-hours for the period from 2015 to 2019.

The Townsend Project operates in a run-of-river mode with a continuous minimum flow of 304 cubic feet per second (cfs), or inflow, whichever is less conveyed to the bypassed reach. Because the minimum hydraulic capacity for operating a single unit is 600 cfs, the minimum river flow needed for project operation is 904 cfs (304 cfs plus 600 cfs). There is minimal to no available usable storage behind the dam and if river flow is less than 904 cfs, all water is spilled over the dam. The project is typically operated automatically, but manual operation may occur during high-water events. The project is returned to automatic operation when flow decreases.

m. Copies of the application can be viewed on the Commission's website at https://www.ferc.gov, using the “eLibrary” link. Enter the project's docket number, excluding the last three digits in the docket number field, to access the document. For assistance, contact FERC Online Support.

You may also register at https://ferconline.ferc.gov/FERCOnline.aspx to be notified via email of new filings and issuances related to this or other pending projects. For assistance, please contact FERC Online Support at FERCOnlineSupport@ferc.gov.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or at OPP@ferc.gov.

n. Scoping Process: Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two public scoping meetings and an environmental site review in the vicinity of the project to receive input on the scope of the NEPA document. An evening meeting will focus on receiving input from the public and a daytime meeting will focus on the concerns of resource agencies, non-governmental organizations (NGOs), and Indian Tribes. We invite all interested agencies, Indian Tribes, NGOs, and individuals to attend one or both meetings. The times and locations of these meetings are as follows:

Evening Scoping Meeting

Date: Tuesday, April 16, 2024

Time: 7:00 p.m. EDT

Place: Hampton Inn Pittsburgh Area—Beaver Valley

Address: 202 Fairview Drive, Monaca, PA 15061

Daytime Scoping Meeting

Date: Wednesday, April 17, 2024

Time: 1:00 p.m. EDT

Place: Hampton Inn Pittsburgh Area—Beaver Valley

Address: 202 Fairview Drive, Monaca, PA 15061

Copies of the Scoping Document (SD1) outlining the subject areas to be addressed in the NEPA document were distributed to the parties on the Commission's mailing list. Copies of the SD1 will be available at the scoping meeting or may be viewed on the web at http://www.ferc.gov using the “eLibrary” link (see item m above).

Environmental Site Review

The applicant and Commission staff will conduct an environmental site review of the project. All interested individuals, agencies, Indian Tribes, and NGOs are invited to attend. All participants are responsible for their own transportation to the site. Please RSVP via email to Laura Cowen at laura.cowen@kleinschmidtgroup.com or by phone at (717) 983-4056 if you plan to attend the environmental site review. The time and location of the environmental site review is as follows:

Date: Wednesday, April 17, 2024

Time: 9:00 a.m. EDT

Place: Townsend Water Power Project Station Entrance

Address: 900 1st Avenue, New Brighton, PA 15066

All persons attending the environmental site review must adhere to the following requirements: (1) all persons must wear sturdy, closed-toe shoes or boots; (2) persons with open-toed shoes/sandals/flip flops/high heels, etc. will not be allowed on the environmental site review; (3) persons must be 18 years or older; (4) no photography will be allowed inside the powerhouse; (5) no weapons are allowed on-site; (6) no alcohol/drugs are allowed on-site (or persons exhibiting the effects thereof); and (7) no animals (except for service animals) are allowed on the environmental site review.

Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Procedures

The meetings are recorded by a stenographer and become part of the formal record of the Commission proceeding on the project. Individuals, NGOs, Indian Tribes, and agencies with environmental expertise and concerns are encouraged to attend the meeting and to assist the staff in defining and clarifying the issues to be addressed in the NEPA document.

Dated: March 15, 2024.
Debbie-Anne A. Reese,
Acting Secretary.

[FR Doc. 2024-06043 Filed 3-20-24; 8:45 am]

BILLING CODE 6717-01-P